DEPARTMENT OF THE INTERIOR

Bureau of Land Management

[20X LLUTW01000 L14400000.EU0000 241A; UTU-81923]

Notice of Realty Action: Recreation and Public Purposes Act Classification and Conveyance of Public Land to the Town of Cedar Fort, Utah County, Utah; Termination of Prior Classification and Opening Order of Public Land, Utah County, Utah

AGENCY: Bureau of Land Management, Interior.

ACTION: Notice of realty action.

SUMMARY: In accordance with Section 7 of the Taylor Grazing Act and Executive Order 6910, the Bureau of Land Management (BLM) has examined certain public lands in Utah County, Utah, totaling 7.5 acres, and found them suitable for conveyance to the Town of Cedar Fort under the Recreation and Public Purposes (R&PP) Act, as amended. The BLM is also terminating the prior R&PP classification and segregation on the adjacent 92.5 acres of public lands.

DATES: Interested parties may submit written comments regarding this action on or before December 7, 2020.

ADDRESSES: Send written comments to Allison Ginn, Acting Field Manager, BLM Salt Lake Field Office, 2370 S Decker Lake Blvd., West Valley City, Utah 84119. The BLM will also consider comments received via email at blm_ut_sl_comments@blm.gov. Detailed information including a proposed plan of development, maps, and the project casefile are available for review upon request by contacting the BLM Salt Lake Field Office at (801) 977-4300 during business hours, 8 a.m. to 4:30 p.m. Mountain Daylight Time, Monday through Friday, except Federal holidays.

FOR FURTHER INFORMATION CONTACT: Shawn Storbo, Realty Specialist, at (801) 977-4368 or sstorbo@blm.gov. Persons who use a telecommunications device for the deaf (TDD) may call the Federal Relay Service (FRS) at 1-800-877-8339 to leave a message or question for the above individual. The FRS is available 24 hours a day, 7 days a week. Replies are provided during normal business hours.

SUPPLEMENTARY INFORMATION: In 1984, the BLM classified for disposal by lease and/or sale 100 acres of public land under the R&PP Act and concurrently withdrew the lands from all forms of appropriation, including the mining laws, but not the mineral leasing laws. An R&PP lease for these acres was issued to the Town of Cedar Fort in 1984. The Town of Cedar Fort has subsequently developed community and recreational resources on the parcel under the R&PP lease and a right-of-way grant. This lease was most recently renewed under a new serial number and plan of development in June 2007.

Classification and Conveyance

The Town of Cedar Fort has filed an application for conveyance of a portion of the public lands that were originally classified for disposal by lease and/or sale under the R&PP Act in 1984. In accordance with the R&PP Act, the BLM will convey to Cedar Fort only the acres necessary and developed per their approved plan of development. Cedar Fort will continue its use and operation of the lands for the Cedar Fort Community and Recreation Center with its associated facilities and for other recreation and public purposes. Per this application, the BLM examined and classified as suitable for conveyance under the R&PP Act the following legally described lands:

Salt Lake Meridian, Utah

T. 6 S., R. 2 W.,

Sec. 7, NE¼NW¼NE¼NE¼, NW¼NW¼NE¼NE¼, NE¼NE¼NW¼NE¼.

The area described contains 7.5 acres.

The Town of Cedar Fort has not applied for more than the 6,400-acre limitation for recreation uses in a year (or 640 acres for nonprofit corporations and associations), nor more than 640 acres for each of the programs involving public resources other than recreation. The Town of Cedar Fort submitted a statement in compliance with Federal regulations at 43 CFR 2741.4(b).

The conveyance is consistent with the Pony Express Resource Management Plan, as amended. In conformance with the National Environmental Policy Act, the BLM prepared a parcel-specific Environmental Assessment (DOI-BLM-UT-020-2007-030) for this lease and conveyance. The BLM approved a Finding of No Significant Impact and Decision Record to implement the classification and conveyance of these lands. Pursuant to the requirements established by Section 120(h) of the Comprehensive Environmental Response, Compensation and Liability Act (42 U.S.C. 9620(h)), as amended by the Superfund Amendments and Reauthorization Act of 1988, (100 Stat. 1670), the above-described parcel was examined and no evidence was found to indicate that any hazardous substances were stored for one year or more, nor had any hazardous substances been disposed of or released on the subject property.

Parties of interest will receive a copy of this Notice. The BLM will submit for publication a copy of this Notice in a newspaper with local circulation once a week for three consecutive weeks. No public meeting is required for this classification and conveyance, as the conveyance is for less than 640 acres (43 CFR 2741.5(d)(2)).

Publication of this Notice in the Federal Register segregates the 7.5 acres from appropriation under any other public land law, including locations under the mining laws, except for lease or conveyance under the R&PP Act and leasing under the mineral leasing laws. The segregation effect shall terminate upon issuance of the patent, upon final rejection of the application, or 18 months from the date of this notice, whichever occurs first.

The conveyance of the land, when issued, will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Conveyance of the parcel is subject to valid existing rights.

5. An appropriate indemnification clause protecting the United States from claims arising out of the lessee's/patentee's use, occupancy, or occupations on the leased/patented lands.

6. The land conveyed shall revert to the United States upon a finding, after notice and opportunity for a hearing, that, without the approval of the Secretary of the Interior or his delegate, the patentee or its successor attempts to transfer title to or control over the lands to another, the lands have been devoted to a use other than that for which the lands were conveyed, the lands have not been used for the purpose for which the lands were conveyed for a five-year period, or the patentee has failed to follow the approved development plan or management plan.

7. Any other reservations that the authorized officer determines appropriate to ensure public access and proper management of Federal lands and interests therein.

Termination of Prior Classification and Opening Order

Of the 100 acres of public land classified under the R&PP Act in 1984 and concurrently withdrawn from all forms of appropriation, including under the mining laws, but not the mineral leasing laws, 92.5 acres are not included in the present classification and conveyance. The prior classification of these 92.5 acres and the segregative effect is hereby terminated. The lands will be opened to operation of the public land laws generally, including the United States mining laws, subject to valid existing rights and the requirements of applicable law. This opening order takes effect at 8 a.m. on October 22, 2020. These lands are legally described as follows:

Salt Lake Meridian, Utah

T. 6 S., R. 2 W.,

Sec. 7, NE¼NE¼NE¼, S½NW¼NE¼NE¼, N½SW¼NE¼NE¼, N½SE¼NE¼NE¼, NW¼NE¼NW¼NE¼, S½NE¼NW¼NE¼, NW¼NW¼NE¼, N½SW¼NW¼NE¼, N½SE¼NW¼NE¼, NE¼NW¼.

The area described contains 92.5 acres.

Appropriation under the general mining laws prior to the date and time of restoration is unauthorized. Any such attempted appropriation, including attempted adverse possession under 30 U.S.C. 38, shall vest no rights against the United States. Acts required to establish a location and to initiate a right of possession are governed by State law where not in conflict with Federal law. The BLM will not intervene in disputes between rival locators over possessory rights since Congress has provided for such determination in local courts.

Comments

Interested persons may submit comments involving the suitability of the land for the continued use and operation of the Cedar Fort Community and Recreation Center with its associated facilities and for other recreation and public purposes. Comments on the classification are restricted to whether the land is physically suited for the proposal, whether the use will maximize the future use or uses of the land, whether the use is consistent with local planning and zoning, or if the use is consistent with State and Federal programs.

Interested persons may submit comments regarding the specific use proposed in the application and plan of development and management, whether the BLM followed proper administrative procedures in reaching the decision, or any other factor not directly related to the suitability of the lands for the continued use and operation of the Cedar Fort Community and Recreation Center with its associated facilities and for other recreation and public purposes.

The BLM State Director or other authorized official of the Department of the Interior who may sustain, vacate, or modify this realty action will review any adverse comments. In the absence of any adverse comments, the classification of 7.5 acres under the R&PP Act for conveyance will become effective on December 21, 2020. The lands will not be available for conveyance until after the classification becomes effective.

Before including your address, phone number, email address, or other personal identifying information in your comment, you should be aware that your entire comment—including your personal identifying information—may be made publicly available at any time. While you can ask us in your comment to withhold your personal identifying information from public review, we cannot guarantee that we will be able to do so.

Authority: 43 CFR 2741.5; 43 CFR 2461.5(c)(2); 43 CFR 2091.2-2(a)(2).

Gregory Sheehan,
State Director.

[FR Doc. 2020-23412 Filed 10-21-20; 8:45 am]

BILLING CODE 4310-DQ-P